DEPARTMENT OF TRANSPORTATION

Office of the Secretary

Privacy Act of 1974: System of Records

AGENCY: Office of the Secretary, DOT.

ACTION: Notice to establish two systems of records and to amend two systems of records.

SUMMARY: DOT intends to establish two new systems of records under the Privacy Act of 1974 and to exempt them from certain provisions of the Act. DOT also intends to amend two existing systems of records.

DATES: December 29, 2000.

FOR FURTHER INFORMATION CONTACT: Yvonne L. Coates, Department of Transportation, Office of the Secretary, 400 7th Street, SW., Washington, DC 20590, (202) 366-6964 (telephone), (202) 366-7024 (fax), Yvonne.Coates@ost.dot.gov (Internet address).

SUPPLEMENTARY INFORMATION: The Department of Transportation systems of records notices subject to the Privacy Act of 1974 (5 U.S.C. 552a), as amended, have been published in the Federal Register and are available from the above mentioned address.

DOT/FAA 852

System name:

Suspected Unapproved Parts (SUP) Program.

Security classification:

Unclassified, Sensitive.

System location:

Department of Transportation, Federal Aviation Administration (FAA), Associate Administrator for Regulation and Certification, Suspected Unapproved Parts Program Office, Dulles, VA 20166. Records may also be temporarily located in FAA Regional Offices and Directorate Offices, as well as FAA Civil Aviation Security Offices during the time of the open investigation.

Categories of individuals covered by the system of records:

Company representatives of air carriers, repair stations, mechanics, manufacturers, suppliers, brokers, or individuals who are otherwise directly or indirectly involved in suspected unapproved parts investigations. Individuals who contact the FAA regarding the manufacture, sale or use of suspected unapproved parts may also be included in the system of records.

Categories of records in the system:

Records include files and other investigatory material pertaining to a SUP investigation. Records may contain name and address, phone numbers, and certificate numbers of companies or individuals, their role in SUP investigations, information referencing enforcement actions, alert or notification actions, and investigation results.

Authority for maintenance of the system:

49 U.S.C. 44701.

Purpose:

To provide a primary collection point of SUP records and issues and provide technical support to FAA and industry on SUP; maintain a parts reporting information system for tracking SUP investigations and analysis of data; provide program oversight, and review of SUP related enforcement actions and audits.

Routine uses of records maintained in the system, including categories of users and the purposes of such uses:

FAA will routinely provide relevant information to the Federal Bureau of Investigation, U.S. Customs Service, and Defense Criminal Investigative Services for their use in any civil/criminal investigations when a SUP case is initiated. Also see Prefatory Statement of General Routine Uses.

Disclosure to consumer reporting agencies:

None.

Policies and practices for storing, retrieving, accessing, retaining, and disposing of records in the system:

Storage:

Hard copy documents are stored in locked file cabinets with restricted access; electronic records reside in a secure database system. The SUP Program Office operates in a secure office with limited access, key controls, and locks.

Retrievability:

Hard copy investigative records are retrieved by SUP case number; electronic records are retrieved through automated searches such as by case number, company name, individual's name, including source's name, name of the subject of an investigation, part number, type of aircraft, or geographical location.

Safeguards:

Manual records and folders are stored in locked file cabinets with restricted access. Access to automated records is restricted by controlled user ID's and passwords. A risk assessment plan and system security plan are in place.

Retention and disposal:

These records are retained for a period of 5 years. National Archives and Records Administration (NARA) approval pending.

System Manager and address:

Department of Transportation, Federal Aviation Administration, Manager, Suspected Unapproved Parts Program Office, 4500 Aviation Drive, Suite 214, Dulles, VA 20166.

Notification procedure:

Same as “System Manager.”

Record access procedures:

Same as “System Manager.”

Contesting record procedures:

Same as “System Manager.”

Record source categories:

Information is collected from individuals, including air carriers, repair stations, aircraft owners/operators, manufacturers, suppliers, brokers, mechanics, pilots, FAA, and DOT officials who believe for any reason a part is not approved.

Exemption claimed for the system:

Portions of this system are exempt from disclosure under the provisions of 5 U.S.C. 552a(k)(2).

OMB Control Number:

Not applicable.

System number:

DOT/FMCSA 001.

System name:

Motor Carrier Management Information System (MCMIS).

Security classification:

Unclassified, Sensitive.

System location:

Austin Automation Center (AAC), Department of Veterans Affairs (VA), 1615 Woodward Street, Austin, TX 78772 (www.aac.va.gov).

Categories of individuals covered by the system of records:

Individuals who are the sole employee (owner/operator) of a company subject to the Federal Motor Carrier Safety Regulations. Drivers of commercial vehicles who were involved in a recordable crash or who were the subject of a roadside driver/vehicle inspection or an investigatory action.

Categories of records in the system:

Records include information, which supports investigatory procedures and enforcement actions. Company operation records are identified by legal name, trade name, physical and mailing addresses, USDOT number, MC or MX number, Dun & Bradstreet number and Tax Identification Number which, in the case of an owner/operator, is the individual's Social Security Number. Drivers and co-drivers are identified by name, date of birth, license number and license State. Inspection records include violations of applicable Federal and State laws that were discovered during an inspection. Information maintained in the MCMIS includes demographic and safety performance information on approximately 600,000 interstate and foreign motor carriers and hazardous material shippers operating in the United States. Additionally, information on intrastate carriers is being added to MCMIS as States move toward use of a single USDOT number to identify all motor carriers.

Data in MCMIS include:

Motor Carrier Identification (Census)—This data includes the USDOT number, carrier identification, carrier address, type and size of operation, commodities carried, as well as other characteristics of the operation. Approximately 50,000 new entities are added to the census file annually.

Driver/Vehicle Inspection Data—This data is collected during roadside inspections of drivers and vehicles. Violations of safety regulations governing the driver, the vehicle and those specifically related to the transportation of hazardous materials are included. The majority of driver/vehicle inspections are conducted by State officers. Approximately 2 million inspections of motor carriers' drivers and vehicles operating in interstate commerce and 300,000 inspections of motor carriers operating intrastate are entered into MCMIS annually.

Crashes—This data is collected from State and local police crash reports. Approximately 100,000 truck and bus crashes are entered into MCMIS annually.

Reviews and Ratings—This data is collected during on-site reviews of motor carrier and hazardous material shipper operations. Information from these reviews is used to determine a safety fitness rating (Satisfactory, Conditional, Unsatisfactory) which is posted in the MCMIS. Over 130,000 motor carriers are currently rated and approximately 10,000 more are added every year.

Enforcement—The MCMIS contains key information about each enforcement case conducted against a company, including types of violations and fines assessed. It is estimated that information on about 2,000 new cases is received annually.

Authority for maintenance of the system:

49 U.S.C. 502, 504, 506, and 508; and 49 CFR 1.73.

Purpose:

To provide a central collection point for records on motor carriers and hazardous material shippers which allows for the analysis of safety-related data needed to administer and manage the FMCSA's motor carrier safety program.

Routine uses of records maintained in the system, including categories of users and the purposes of such uses:

Information may be shared with Federal, State, and local governments, contractors involved in system support and maintenance, and Motor Carrier Safety Assistance Program (MCSAP) participants and grantees for use in support of commercial motor vehicle safety. See Prefatory Statement of General Routine Uses.

Disclosure to consumer reporting agencies:

None.

Policies and practices for storing, retrieving, accessing, retaining, and disposing of records in the system:

Storage:

MCMIS records are stored in an automated system operated and maintained at the AAC.

Retrievability:

Electronic records can be retrieved through automated searches on information, such as, company name, company's tax identification number, driver's name, driver's date of birth, driver's license number, geographical location, or various other means.

Safeguards:

The MCMIS falls under the guidelines of the AAC in Austin, TX. This facility has it's own approved System Security Plan which provides that:

The system will be maintained in a secure computer room with access restricted to authorized personnel.

Access to the building must be authorized and is limited.

Access will be controlled by requiring that users provide a valid account name and password. The MCMIS contains a function that tracks system usage for other authorized users. MCMIS will require users to change access control identifiers at periodic intervals.

The Federal Motor Carrier Safety Administration will operate the MCMIS in accordance with the Federal security regulations, policy, procedures, standards and guidance for implementing the Automated Information System Security Program.

Only authorized U.S. and State Government personnel and contractors conducting system support or maintenance may access MCMIS records.

Access to records is password protected and the scope of access for each password is limited to the official need of each individual authorized access.

Additional protection is afforded by the use of password security, data encryption, and the use of a secure network.

Retention and disposal:

Computerized database with daily backups performed automatically. Master Files are NARA historical copies, which are permanent. Annual transfers occur at end of each fiscal year. Agency master files are destroyed after six years.

System Manager and address:

Department of Transportation, Federal Motor Carrier Safety Administration, Division Chief, Information Systems Division, 400 7th Street, SW., Washington, DC 20590.

Notification procedure:

Same as “System Manager.”

Record access procedures:

Same as “System Manager.”

Contesting record procedures:

Same as “System Manager.”

Record Source Categories:

Driver information is recorded as a result of roadside driver/vehicle inspections and crash reports submitted by State and local law enforcement agencies and investigations performed by State and Federal investigators. MCMIS is constantly being updated as States and FMCSA field offices forward safety information to the MCMIS soon after it has been accumulated and processed in their local information systems.

Exemptions claimed for the system:

Portions of this system are exempt from disclosure under the provisions of 5 U.S.C. 552a(k)(2).

OMB Control Number:

The Federal Motor Carrier Safety Administration has received approval from the Office of Management and Budget (OMB) for each collection of information it conducts and requires pursuant to OMB No. 2126-0013, Motor Carrier Identification Report (Application for U.S. DOT Number), MCS-150 (Rev. 3-2000).

The Department of Transportation proposes to amend the following two systems of records. The DOT/FHWA 204 is being changed to DOT/FMCSA 002; and DOT/FHWA 213 is being changed to DOT/FMCSA 003.

DOT/FMCSA 002

System name:

Federal Motor Carrier Safety Administration (FMCSA) Motor Carrier Safety Proposed Civil and Criminal Enforcement Cases, DOT/FMCSA.

Security classification:

Unclassified—sensitive.

System location:

Office of Enforcement (MC-EC); 400 7th Street, SW., Room 3419, Washington, DC 20590.

Categories of individuals covered by the system:

Officers, agents or employees of motor carriers, including drivers who have been the subject of investigation for Motor Carrier Safety regulation violations.

Categories of records in the system:

Motor Carrier safety regulation violations and identifying features.

Authority for maintenance of the system:

Motor Carrier Safety Act of 1984, 49 U.S.C. 521(b).

Purpose(s):

Decide enforcement action, and for use as historical documents in case of appeal.

Routine uses of records maintained in the system, including categories of users and the purposes of such uses:

See Prefatory Statement of General Routine Uses. Routine use number 5 does not apply to this system of records.

Disclosure to consumer reporting agencies:

None.

Policies and practices for storing, retrieving, accessing, retaining, and disposing of records in the system:

Storage:

File folders in the Field Legal Services' offices

Retrievability:

Names of individuals.

Safeguards:

Only Office of the Chief Counsel or Field Legal Services employees, and other FMCSA employees have regular access to the files.

Retention and disposal:

The records are retained for one year and then are generally sent to the local Federal Records Centers for an additional three-year period. System manager(s) and address: FMCSA, Office of the Chief Counsel, 400 7th Street, SW., Room 4217, Washington, DC 20590; FMCSA Service Centers, Field Legal Services.

Notification procedure:

Same as “System Manager.”

Record access procedures:

Same as “System Manager.”

Contesting record procedures:

Same as “System Manager.”

Record source categories:

Individuals, motor carrier files, OMCHS file information as gathered by OMCHS investigators, etc.

Exemptions claimed for the system:

5 U.S.C. 552 (c)(3), (d), (e)(4)(G), (H), and (I), (f) to the extent they contain investigative material compiled for law enforcement purposes in accordance with 5 U.S.C. 552a(k)(2).

DOT/FMCSA 003

System name:

Driver Waiver/Exemption File.

Security classification:

Unclassified—sensitive.

System location:

Department of Transportation, Federal Motor Carrier Safety Administration (FMCSA), Office of Bus and Truck Standards and Operations (MC-PS), 400 7th Street, SW., Washington, DC 20590; FMCSA Service Centers.

Categories of individuals covered by the system:

Operators of interstate commercial motor vehicles that transport certain commodities.

Categories of records in the system:

Applications for waiver (usually involving physical disability); final disposition of request for waiver; and waiver renewal.

Authority for maintenance of the system:

Motor Carrier Safety Act of 1984 (49 U.S.C. 31136(e) and TEA-21 (49 U.S.C. 31315).

Purpose(s):

Monitor drivers of commercial motor vehicles who operate in interstate commerce and have been identified as physically impaired.

Routine uses of records maintained in the system, including categories of users and the purposes of such uses:

See Prefatory Statement of General Routine Uses. Routine use number 5 is not applicable to this system of records.

Disclosure to consumer reporting agencies:

None.

Policies and practices for storing, retrieving, accessing, retaining, and disposing of records in the system:

Storage:

The records are maintained in file folders in file cabinets.

Retrievability:

The records are filed by driver's name.

Safeguards:

Files are classified as sensitive and are regularly accessible only by designated employees within the FMCSA Service Centers and the FMCSA.

Retention and disposal:

The files are retained while the driver waivers are active. The inactive driver waiver files are purged every 3 years.

System manager(s) and address:

Department of Transportation, Federal Motor Carrier Safety Administration, Office of Bus and Truck Standards and Operations (MC-PS), 400 7th Street, SW., Washington, DC 20590.

Notification procedure:

Same as “System Manager.”

Record access procedures:

Same as “System Manager.”

Contesting record procedures:

Same as “System Manager.”

Record source categories:

Application for Waiver or Waiver Renewal.

Exemptions claimed for the system:

None.

Dated: December 26, 2000.
Yvonne L. Coates,
Privacy Act Coordinator.

[FR Doc. 00-33365 Filed 12-28-00; 8:45 am]

BILLING CODE 4910-62-P